DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions that are new modified, discontinued, or completed since the last publication of this notice on August 5, 2002. The January 31, 2002, notice should be used as a reference point to identify changes. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, P.O. Box 25007, Denver, Colorado 80225-0007; telephone (303) 445-2902.

SUPPLEMENTARY INFORMATION: Consistent with section 226 of the Reclamation Reform Act of 1982 (96 Stat. 1273) and 43 CFR 426.20 of the rules and regulations published in 52 FR 11954, April 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, February 22, 1982, a tabulation is provided of all proposed contractual actions in each of the five Reclamation regions. Each proposed action is, or is expected to be, in some stage of the contract negotiation process in 2002. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (i) The significance of the modification, and (ii) the degree of public interest which has been expressed over the course of the negotiations. As a minimum, the regional director shall furnish revised contracts to all parties who requested the contract in response to the initial public notice.

Acronym Definitions Used Herein

BON Basis of Negotiation

BCP Boulder Canyon Project

Reclamation Bureau of Reclamation

CAP Central Arizona Project

CUP Central Utah Project

CVP Central Valley Project

CRSP Colorado River Storage Project

D&MC Drainage and Minor Construction

FR Federal Register

IDD Irrigation and Drainage District

ID Irrigation District

M&I Municipal and Industrial

NEPA National Environmental Policy Act

O&M Operation and Maintenance

P-SMBP Pick-Sloan Missouri Basin Program

PPR Present Perfected Right

RRA Reclamation Reform Act

R&B Rehabilitation and Betterment

SOD Safety of Dams

SRPA Small Reclamation Projects Act

WCUA Water Conservation and Utilization Act

WD Water District

Pacific Northwest Region: Bureau of Reclamation, 1150 North Curtis Road, Suite 100, Boise, Idaho 83706-1234, telephone (208) 378-5223.

Modified Contract Action

4. Pioneer Ditch Company, Boise Project, Idaho; Clark and Edwards Canal and Irrigation Company, Enterprise Canal Company, Ltd., Lenroot Canal Company, Liberty Park Canal Company, Poplar ID, all in the Minidoka Project, Idaho; and Juniper Flat District Improvement Company, Wapinitia Project, Oregon: Amendatory repayment and water service contracts; purpose is to conform to the RRA (Pub. L. 97-293).

Completed Contract Action

4. Pioneer Ditch Company, Boise Project, Idaho; Clark and Edwards Canal and Irrigation Company, Enterprise Canal Company, Ltd., Fremont-Madison ID, Lenroot Canal Company, Liberty Park Canal Company, Poplar ID, all in the Minidoka Project, Idaho; and Juniper Flat District Improvement Company, Wapinitia Project, Oregon: Amendatory repayment and water service contracts; purpose is to conform to the RRA (Pub. L. 97-293). Contract with Fremont-Madison ID was executed on September 16, 2002.

Mid-Pacific Region: Bureau of Reclamation, 2800 Cottage Way, Sacramento, California 95825-1898, telephone 916-978-5250.

New Contract Action

41. San Joaquin Valley National Cemetery, U.S. Department of Veteran Affairs, Delta Division, CVP, California: Renewal of the long-term water service contract for up to 850 acre-feet with conveyance through the California State Aqueduct pursuant to the CVP-SWP wheeling agreement.

Modified Contract Actions

35. Sacramento Suburban WD (formerly Northridge WD), CVP, California: Execution of long-term Warren Act contract for conveyance of nonproject water. This contract will allow CVP facilities to be used to deliver nonproject water to the Sacramento Suburban WD for use within their service area.

38. Cachuma Operation and Maintenance Board, Cachuma Project, California: Long-term contract to transfer responsibility for O&M and O&M funding of certain Cachuma Project facilities to the member units.

Completed Contract Actions

7. Cachuma Operation and Maintenance Board, Cachuma Project, California: Repayment contract for SOD work on Bradbury Dam. Contract was executed July 1, 2002.

12. Cachuma Operations and Maintenance Board, Cachuma Project, California: Temporary interim contract (not to exceed 1 year) to transfer responsibility of certain Cachuma Project facilities to member units. Temporary interim contract executed on January 1, 2002, and expired on October 31, 2002.

15. Placer County Water Agency, CVP, California: Amendment of existing water service contract to allow for additional points of diversion and adjustment to Project water quantities. The amended contract will conform to current Reclamation law. Amendatory contract executed August 27, 2002.

Lower Colorado Region: Bureau of Reclamation, PO Box 61470 (Nevada Highway and Park Street), Boulder City, Nevada 89006-1470, telephone 702-293-8536.

New Contract Actions

49. All-American Canal, BCP, California: Agreement among Reclamation, Imperial ID, and Metropolitan WD to provide for the construction of lining for 23 miles of the All-American Canal, funded by the State of California.

50. All-American Canal, BCP, California: Agreement among Reclamation, Imperial ID, Metropolitan WD, and Coachella Valley WD for the Federally funded construction of a reservoir(s) and associated facilities that will improve Reclamation's ability to regulate and manage Colorado River water.

51. Pasquinelli, Gary J. and Barbara J., BCP, Arizona: Contract for the delivery of 486 acre-feet of Colorado River water for agricultural purposes.

52. Sun City West Company, CAP, Arizona: Assignment of M&I subcontract rights and responsibilities to Arizona American Water Company.

53. Sun City Company, CAP, Arizona: Assignment of M&I subcontract rights and responsibilities to Arizona American Water Company.

54. Citizens Communications Company, Agua Fria Division, CAP, Arizona: Assignment of M&I subcontract rights and responsibilities to Arizona American Water Company.

Modified Contract Action

24. ASARCO Inc., CAP, Arizona: Amendment of subcontract to extend the deadline until December 31, 2003, for giving notice of termination on exchange.

Completed Contract Action

13. City of Needles, Lower Colorado Water Supply Project, California: Amend contract No. 2-07-30-W0280 to extend the City's water service subcontracting authority to the Counties of Imperial and Riverside.

Upper Colorado Region: Bureau of Reclamation, 125 South State Street, Room 6107, Salt Lake City, Utah 84138-1102, telephone 801-524-4419.

New Contract Actions

22. City of Page, Arizona, Glen Canyon Unit, CRSP, Arizona: Long-term contract for 1,000 acre-feet of water for municipal purposes.

23. Castle Valley Special Service District, City of Huntington, Emery County Project: Assignment of contract for 189 acre-feet of water for municipal purposes.

Discontinued Contract Action

19. Ute Mountain Ute Tribe, Dolores Project, Colorado: Short-term (5-year) carriage contract with the Ute Mountain Ute Tribe to carry up to 3,500 acre-feet of nonproject water in project facilities under the authority of the Warren Act of 1911.

Completed Contract Action

15. Mancos Water Conservancy District, Mancos Project, Colorado: Various carriage contracts with individual irrigators and the District to allow the carriage of up to 1,000 acre-feet of nonproject irrigation water in project facilities under the authority of Pub. L. 106-549 for the Mancos Project. Contracts executed June 10, 2002.

Great Plains Region: Bureau of Reclamation, PO Box 36900, Federal Building, 316 North 26th Street, Billings, Montana 59107-6900, telephone 406-247-7730.

New Contract Action

43. Chippewa Cree Tribe, Rocky Boy's Indian Reservation, Montana: Pursuant to Title II, section 201(a)(2), of the Rocky Boy's Indian Reserved Water Rights Settlement and Water Supply Enhancement Act of 1999 (Pub. L. 106-163), Reclamation is negotiating to allocate 10,000 acre-feet per year of stored water in Lake Elwell.

Modified Contract Actions

8. Angostura ID, Angostura Unit, P-SMBP, South Dakota: An interim 3-year contract was executed on June 9, 2000, to provide for a continuing water supply and allow adequate time for completion of the Environmental Impact Statement for long-term contract renewal. A BON for a long-term contract renewal has been approved by the Commissioner's Office. Contract negotiations for a long-term contract are expected to be completed by the end of the calendar year.

31. Lower Marias Unit, P-SMBP, Montana: Town of Chester water service contract expires December of 2002. Initiating negotiation for renewal of a long-term water service contract for an annual supply of raw water for domestic use from Tiber Reservoir not to exceed 500 acre-feet. An interim contract may be issued to continue delivery of water until the necessary actions can be completed to renew the long-term contract.

32. City of Dickinson, P-SMBP, Dickinson Unit, North Dakota: A temporary contract has been negotiated with the Park Board for minor amounts of water from Dickinson Dam. Negotiate a long-term water service contract with the City of Dickinson or Park Board, for minor amounts of water from Dickinson Dam.

35. Pueblo Board of Water Works, Fryingpan-Arkansas Project, Colorado: Water conveyance contract expires in October of 2002. On September 25, 2002, an amendment was executed to extend the contract term by 1 year, thereby extending the expiration date to October 1, 2003. Initiating negotiations for renewal of a water conveyance contract for annual conveyance of up to 750 acre-feet of nonproject water through the Nast and Boustead Tunnel System.

Completed Contract Action

39. La Feria ID, Lower Rio Grande Rehabilitation Project, La Feria Division, Texas: The District has repaid the repayment obligation and title to all project works, lands, or interests in lands originally conveyed by the District to the United States shall now be transferred back to the District in accordance with the authorizing legislation, Pub. L. 86-357 dated September 22, 1959, and the contract shall be terminated. Title to the project has been transferred to the District effective September 3, 2002.

Dated: October 16, 2002.
Elizabeth Cordova-Harrison,
Deputy Director, Office of Policy.

[FR Doc. 02-28996 Filed 11-14-02; 8:45 am]

BILLING CODE 4310-MN-P